DEPARTMENT OF COMMERCE

Foreign-Trade Zones Board

[B-2-2024]

Foreign-Trade Zone (FTZ) 134, Notification of Proposed Production Activity; Volkswagen Group of America, Inc.; (Passenger Motor Vehicles); Chattanooga, Tennessee

Volkswagen Group of America, Inc., submitted a notification of proposed production activity to the FTZ Board (the Board) for its facility in Chattanooga, Tennessee within FTZ 134. The notification conforming to the requirements of the Board's regulations (15 CFR 400.22) was received on January 4, 2024.

Pursuant to 15 CFR 400.14(b), FTZ production activity would be limited to the specific foreign-status material(s)/component(s) described in the submitted notification (summarized below) and subsequently authorized by the Board. The benefits that may stem from conducting production activity under FTZ procedures are explained in the background section of the Board's website—accessible via www.trade.gov/ftz. The proposed material(s)/component(s) would be added to the production authority that the Board previously approved for the operation, as reflected on the Board's website.

The proposed foreign-status components include: high voltage heating positive coefficient modules; stainless steel exhaust systems with catalyst; spindle drives; light on detection sensors; and, rain sensors (duty rate ranges from duty-free to 4.2%). The request indicates that certain materials/components are subject to duties under section 232 of the Trade Expansion Act of 1962 (section 232) and section 301 of the Trade Act of 1974 (section 301), depending on the country of origin. The applicable section 232 and section 301 decisions require subject merchandise to be admitted to FTZs in privileged foreign status (19 CFR 146.41).

Public comment is invited from interested parties. Submissions shall be addressed to the Board's Executive Secretary and sent to: ftz@trade.gov. The closing period for their receipt is February 20, 2024.

A copy of the notification will be available for public inspection in the “Online FTZ Information System” section of the Board's website.

For further information, contact Christopher Wedderburn at Chris.Wedderburn@trade.gov.

Dated: January 4, 2024.
Elizabeth Whiteman,
Executive Secretary.

[FR Doc. 2024-00306 Filed 1-9-24; 8:45 am]

BILLING CODE 3510-DS-P